DEPARTMENT OF THE INTERIOR

Bureau of Land Management

[BLM_OR_FRN_MO4500177683]

Notice of Intent To Prepare an Environmental Impact Statement for the Proposed Grassy Mountain Mine Project, Malheur County, Oregon

AGENCY: Bureau of Land Management, Interior.

ACTION: Notice of intent.

SUMMARY: In compliance with the National Environmental Policy Act of 1969, as amended (NEPA), and the Federal Land Policy and Management Act of 1976, as amended (FLPMA), the Bureau of Land Management (BLM) Vale District Office, Vale, Oregon, intends to prepare an environmental impact statement (EIS) to consider the effects of Calico Resources USA's (proponent) proposal to construct, operate, reclaim, and close an underground mining and precious metal milling operation known as the Grassy Mountain Mine Project. By this notice, the BLM announces the beginning of the scoping process to solicit public comments and identify issues.

DATES: This notice initiates the public scoping process for the EIS. The BLM requests that the public submit comments concerning the scope of the analysis, potential alternatives, and identification of relevant information and studies by April 17, 2024. To afford the BLM the opportunity to consider comments in the Draft EIS, please ensure your comments are received prior to the close of the 30-day scoping period or 15 days after the last public meeting, whichever is later.

ADDRESSES: You may submit comments related to the Grassy Mountain Mine Project by any of the following methods:

• Website: https://eplanning.blm.gov/eplanning-ui/project/2030186/510.

• Email: blm_or_vl_grassymtn@blm.gov.

• Fax: 541-473-6213.

• Mail: Vale BLM District Office, 100 Oregon Street, Vale, OR 97918.

Documents pertinent to this proposal may be examined online at https://eplanning.blm.gov/eplanning-ui/project/2030186/510 and at the Vale BLM District Office, 100 Oregon Street, Vale, OR 97918.

FOR FURTHER INFORMATION CONTACT: Daniel Pike, Geologist; 541-473-6369, 100 Oregon Street, Vale, OR 97918; jpike@blm.gov. Contact Daniel Pike to have your name added to our mailing list. Individuals in the United States who are deaf, deafblind, hard of hearing, or have a speech disability may dial 711 (TTY, TDD, or TeleBraille) to access telecommunications relay services for contacting Daniel Pike. Individuals outside the United States should use the relay services offered within their country to make international calls to the point-of-contact in the United States.

SUPPLEMENTARY INFORMATION: The proponent requests BLM approval to construct, operate, reclaim, and close an underground mining and precious metal milling operation, including associated structures and facilities, known as the Grassy Mountain Mine Project.

In addition to approval of the mine plan of operations, the proponent also seeks BLM's concurrence for occupancy incident to the mining operations and a right-of-way (ROW) grant, parallel to the access road, for a transmission line to provide electricity for facilities and operations at the mine.

Purpose and Need for Federal Action

The BLM is responsible for administering mineral rights access on certain federal lands as authorized by the General Mining Law of 1872. Under the law, qualified prospectors are entitled to reasonable access to mineral deposits on public domain lands that have not been withdrawn from mineral entry. To use public lands managed by the BLM for locatable mineral exploration and development, persons must comply with FLPMA and the BLM's implementing regulations governing surface management, occupancy, and, where appropriate, ROW grants across public lands, at title 43 of the Code of Federal Regulations (CFR), parts 3809, 3715, and 2800, respectively, as well as other applicable statutes and regulations. The purpose of this Federal action is to analyze the environmental effects associated with approving, denying, or conditionally approving the proposed action. The need for Federal action is established by the BLM's responsibilities under FLPMA and its implementing regulations to respond to the proponent's request for approval of a plan of operations for the proponent to exercise its rights under the General Mining Law of 1872, as well as the proponent's related proposal to occupy BLM-administered lands more than the 14 calendar days within a 90-day period at a single location (43 CFR subpart 3715) and its application for a transmission line ROW across BLM-administered public lands.

Preliminary Proposed Action and Alternatives

The proponent's proposed action is to construct, operate, reclaim, and close an underground mining and precious metal milling operation, including associated structures and facilities. The project would be located in Malheur County, Oregon, approximately 22 miles south-southwest of Vale, Oregon, in Sections 5, 6, 7, and 8, Township 22S, Range 44E, Willamette Base & Meridian. The project would consist of a mine and process plant area and a project access area. Access to the mine would be along an existing road, though road improvements would need to be made to accommodate large mining vehicles. The proponent proposes to mine approximately 2.07 million tons of mill-grade ore and 0.27 million tons of waste rock for a mine operation of approximately 8 years. The project would result in approximately 487.9 acres of proposed surface disturbance on 18.9 acres of private land and 469 acres of public land. The project would include the following major components:

• One underground mine;

• One waste rock storage area;

• One carbon-in-leach processing plant;

• Three borrow pit areas;

• One tailings storage facility;

• Run-of-mine ore stockpile;

• One reclaim pond;

• A water supply well field and pipeline, associated water delivery pipelines, and power;

• A power substation and distribution system;

• Access and haul roads;

• Ancillary facilities that include the following: haul, secondary, and exploration roads; truck workshop; warehouse; storm water diversions; sediment control basins; reagent and fuel storage; storage and laydown yards; explosive magazines; freshwater storage; monitoring wells; meteorological station; administration/security building; borrow areas; landfill; growth media stockpiles; and solid and hazardous waste management facilities to manage wastes; and

• Reclamation and closure, including the development of an evaporation cell for potential long-term discharge from the tailings storage facility.

The main access area is in portions of Section 5, T22S, R44E; Sections 3, 10, 11, 14, 15, 21, 22, 23, 28, 29, and 32, T21S, R44E; Sections 1, 12, 13, 14, 23, 26, 27, and 34, T20S, R44E; Sections 6 and 7, T20S, R45E; and Sections 22, 23, 26, 35, and 36, T19S, R44E. The access road and its analysis corridor cover 876 acres. In addition to approval of the mine plan of operations, the proponent also seeks BLM's concurrence for occupancy incident to the mining operations and a ROW grant, parallel to the access road, for a transmission line to provide electricity for facilities and operations at the mine.

At present, there are two alternatives that will be considered. Under the No Action alternative, the BLM would disapprove the plan of operations, issue a determination of non-concurrence for occupancy, and deny the application for a ROW grant for a transmission line. The proponent, with permits from the Oregon Department of Geology and Mineral Industries, could conduct mining operations on their privately held parcels of land. The facilities that they propose building on BLM-administered lands would not be constructed, and current land use would continue, including grazing and notice level work by the proponent on BLM-administered land where it has valid mining claims. This notice level work would be limited to five acres of ground disturbance, and the proponent would be required to reclaim these acres once the notice level activity is completed.

The action, as proposed by the proponent, will be considered in the EIS. If the proposed action would cause unnecessary or undue degradation, the BLM will consider an alternative with mitigation measures necessary to prevent unnecessary or undue degradation. Other alternatives may be identified after scoping has been completed and the alternatives/issues meeting with the interdisciplinary team takes place. The proponent has prepared an alternatives analysis for the state agencies, which has been provided to the BLM. The BLM welcomes comments on these preliminary alternatives as well as suggestions for additional alternatives.

Summary of Expected Impacts

Anticipated impacts from the proposed project include up to 487.9 acres of proposed surface disturbance on 18.9 acres of private land and 469 acres of public land for development of the major components described above. Potential impacts may include vegetation removal; recreation and access changes; wildlife impacts including habitat loss; impacts to cultural resources and other impacts of concern to Native Americans; and socioeconomic impacts. Known resources to be addressed in the analysis include, but are not limited to, water quality and quantity; Native American religious concerns; environmental justice; socioeconomics; mining and minerals; recreation; grazing/rangelands; cultural resources; wildlife; soils; and invasive species. Impact analysis will also consider the cumulative impacts to natural and cultural resources from reasonably foreseeable future projects in the area.

Schedule for the Decision-Making Process

The BLM will provide additional opportunities for public participation consistent with the NEPA process, including a 45-day comment period on the Draft EIS. The Draft EIS is anticipated to be available for public review in February 2025, and the Final EIS is anticipated to be released in August 2025 with a Record of Decision in November 2025.

Anticipated Permits and Authorizations

If approved, the BLM would authorize the ground disturbance and occupancy as proposed in the plan of operations, as well as determine a financial guarantee to account for reclamation responsibilities. Other Federal, State, and local authorizations will be required for the project. These could include authorizations under the Clean Water Act, 14 CFR part 77, and other State laws and regulations determined to be applicable to the project.

Public Scoping Process

The BLM will hold two public scoping meetings in the following locations:

• Lions Club Hall, Jordan Valley, OR

• Senior Citizens Center, Vale, OR

The event to be held in Vale, OR, will be livestreamed and participants can attend virtually. The specific dates of these scoping meetings will be announced in advance through a news release in local newspapers, the BLM website (see ADDRESSES), and the project's ePlanning page (see ADDRESSES).

Lead and Cooperating Agencies

The BLM is the lead agency for this EIS. The United States Environmental Protection Agency, Malheur County, and the Oregon Department of Geology and Mineral Industries have accepted cooperating agency status.

Responsible Official

As authorized by the BLM Manual 1203—Delegation of Authority, the Vale District Manager is delegated the authority to make the final decision on the EIS for a mining plan of operations, occupancy determination, and ROW grant.

Nature of Decision To Be Made

The Authorized Officer will consider alternatives analyzed through the NEPA process, including an alternative to not authorize the project and the proponent's proposed mine plan of operations. The Authorized Officer will select an alternative and consider whether that action will be authorized, what mitigation to avoid or reduce resource effects will be necessary, and whether an amendment to the existing Southeastern Oregon Resource Management Plan (2002, as amended) will be necessary. If an amendment is necessary, the BLM would propose a plan amendment concurrently with the final decision on the project.

Additional Information

The BLM will identify, analyze, and consider mitigation to address reasonably foreseeable effects to resources from the Proposed Action and all analyzed reasonable alternatives, and in accordance with 40 CFR 1502.14(e), including appropriate mitigation measures not already included in the proposed action. Mitigation may include avoidance, minimization, rectification, reduction or elimination over time, and compensation, and may be considered at multiple scales, including the landscape scale.

The BLM will utilize and coordinate the NEPA process to help support compliance with applicable procedural requirements under the Endangered Species Act (16 U.S.C. 1536) and section 106 of the National Historic Preservation Act as provided in 36 CFR 800.2(d)(3), including public involvement requirements. The information about historic and cultural resources and threatened and endangered species within the area potentially affected by the proposed action will assist the BLM in identifying, evaluating, and where appropriate, mitigating effects to such resources.

The BLM will consult with Indian Tribal Nations on a government-to-government basis in accordance with Executive Order 13175, BLM Manual Section 1780, and other departmental policies. Tribal concerns, including effects on Indian trust assets and potential effects to cultural resources, will be given due consideration. Federal, state, and local agencies, along with Indian Tribal Nations and other stakeholders that may be interested in or affected by the proposed action that the BLM is evaluating, are invited to participate in the scoping process, and if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9).

Shane DeForest,
Vale District Manager.

[FR Doc. 2024-05719 Filed 3-15-24; 8:45 am]

BILLING CODE 4331-24-P